DEPARTMENT OF JUSTICE

Notice of Lodging of Consent Decree Under the Clean Air Act

Under 28 CFR 50.7, notice is hereby given that on October 17, 2011, a proposed consent decree with defendant Boehringer Ingelheim Vetmedica, Inc. (BIV), was lodged in the civil action United States v. Boehringer Ingelheim Vetmedica, Inc., No. 11-cv-06100-SOW, in the United States District Court for the Western District of Missouri.

In this action the United States is seeking civil penalties pursuant to Sections 113(b) and 608(c) of the Clean Air Act (CAA), 42 U.S.C. 7413(b) & 7671g(c), against BIV for violations that occurred at BIV's St. Joseph, Missouri, facility. The United States alleges in its complaint that the defendant failed to comply with regulations issued pursuant to Section 608 of the CAA, at 40 CFR part 82, Subpart F, that address the venting and release of Class I and Class II refrigerants into the environment. The proposed consent decree will resolve the United States' claims against the defendant under Section 608(c) of the CAA, 42 U.S.C. 7671g(c). Under the terms of the proposed consent decree, defendant BIV will make a cash payment of $300,000 to the United States and perform a Supplemental Environmental Project that will cost approximately $662,000. The Supplemental Environmental Project will be the decommissioning of equipment at a BIV facility in Fort Dodge, Iowa, that contains chlorofluorocarbons (CFCs) and replacement with equipment that does not contain CFCs.

For thirty (30) days after the date of this publication, the Department of Justice will receive comments relating to the Consent Decree. Comments should be addressed to the Assistant Attorney General, Environment and Natural Resources Division, and either e-mailed to pubcomment-ees.enrd@usdoj.gov or mailed to Environmental Enforcement Section, U.S. Department of Justice, P.O. Box 7611, Washington, DC 20044-7611. In either case, the comments should refer to the proposed consent decree with defendant BIV in United States v. Boehringer Ingelheim Vetmedica, Inc., D.J. Ref. 90-5-2-1-09876.

The proposed consent decree may be examined at the office of the United States Attorney, 400 East Ninth Street, Kansas City, Missouri 64106.During the comment period, the Consent Decree may be examined on the following Department of Justice Web site: http://www.justice.gov/enrd/Consent_Decrees.html. A paper copy of the Consent Decree may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a paper copy by mail, please enclose a check in the amount of $10.00 (25 cents per page reproduction costs), payable to the U.S. Treasury. When requesting a paper copy if by e-mail or fax, please forward a check in that amount to the Consent Decree Library at the stated address.

Robert E. Maher, Jr.,
Assistant Section Chief, Environmental Enforcement Section, Environment and Natural Resources Division.

[FR Doc. 2011-27489 Filed 10-24-11; 8:45 am]

BILLING CODE 4410-15-P